DEPARTMENT OF LABOR

Employment and Training Administration

[TA-W-53, 994]

Union Tools, Inc., a Subsidiary of Acorn Products, Frankfort, NY; Amended Certification Regarding Eligibility to Apply for Worker Adjustment Assistance and Alternative Trade Adjustment Assistance

In accordance with section 223 of the Trade Act of 1974 (19 U.S.C. 2273) the Department of Labor issued a Certification of Eligibility to Apply for Worker Adjustment Assistance on January 23, 2004, applicable to workers of Union Tools, Inc., a subsidiary of Acorn Products, Frankfort, New York. The notice will be published soon in the Federal Register.

At the request of the State agency, the Department reviewed the certification for workers of the subject firm. The workers are engaged in the production of lawn and garden tools.

New information from the State shows that the International Brotherhood of Boiler Makers, Iron Ship Builders, Blacksmiths, Forgers and Helpers, requested Alternative Trade Adjustment Assistance (ATAA) on behalf of the workers of the subject firm but that request was not addressed in the decision document.

Information obtained from the company indicates that a significant number of workers of the subject firm are age 50 or over, workers have skills that are not easily transferable, and conditions in the industry are adverse. Review of this information shows that all eligibility criteria under Section 246 of the Trade Act of 1974 (26 U.S.C. 2813), as amended, have been met.

Accordingly, the Department is amending the certification to reflect its finding.

The amended notice applicable to TA-W-53,994 is hereby issued as follows:

“All workers of Union Tools, Inc., a subsidiary of Acorn Products, Frankfort, New York, who became totally or partially separated from employment on or after January 12, 2003, through January 23, 2006, are eligible to apply for adjustment assistance under Secton 223 of the Trade Act of 1974 and are also eligible to apply for Alternative Trade Adjustment Assistance under section 246 of the Trade Act of 1974.”

Signed at Washingotn, DC., this 8th day of March, 2004.
Richard Church,
Certifying Officer, Division of Trade Adjustment Assistance.

[FR Doc. 04-5927 Filed 3-15-04; 8:45 am]

BILLING CODE 4510-30-M